CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the AmeriCorps*VISTA Assessment of VISTA Project Sustainability to the Office of Management and Budget (OMB) for review and approval in accordance with the Paperwork Reduction Act of 1995, Public Law 104-13 (44 U.S.C. Chapter 35). Copies of this ICR, with applicable supporting documentation, may be obtained by calling the Corporation for National and Community Service, Mr. Craig Kinnear at (202) 606-9708. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on January 17, 2008. This comment period ended March 17, 2008. No public comments were received from this notice.

Description

The Corporation is developing a systematic approach for assessing how well local organizations with full-time AmeriCorps*VISTA members are able to sustain projects over the long-term. This study will evaluate the contributions of VISTA in strengthening local organizations serving low-income communities and develop a tool that can serve as a foundation for additional studies in the future. Information will be collected over time on the relevant characteristics of 250 closed VISTA projects. Closed projects are defined as projects that no longer have active VISTAs, although they still may be continuing without VISTA support. The original goals and objectives of the projects will be identified, as well as how the goals may have evolved over time. The study will evaluate the extent to which closed projects have been able to achieve their goals and will develop a model that identifies the likelihood that ongoing projects will be sustained beyond their third year of programming, after the VISTA members are no longer present. The study will include telephone interviews of the 250 projects and site visits to 40 projects.

Type of Review: New.

Agency: Corporation for National and Community Service.

Title: VISTA Evaluation Study.

Agency Number: None.

Affected Public: AmeriCorps*VISTA sponsoring organizations.

Total Telephone Interview Respondents: 250.

Frequency: Once.

Average Time per Response: 1 hour.

Estimated Total Burden Hours: 250 hours.

Total Burden Cost (capital/startup): None.

Total Burden Cost (operating/maintenance): None.

Total Site Visit Respondents: 40.

Frequency: Once.

Average Time per Response: 1.5 hours.

Estimated Total Burden Hours: 60 hours.

Total Burden Cost (capital/startup): None.

Total Burden Cost (operating/maintenance): None.

Dated: August 27, 2008.
Jean Whaley,
Director, AmeriCorps*VISTA.

[FR Doc. E8-20491 Filed 9-3-08; 8:45 am]

BILLING CODE 6050-$$-P